DEPARTMENT OF COMMERCE

National Oceanic and Atmospheric Administration

RIN 0648-XC535

Caribbean Fishery Management Council; Public Hearing

AGENCY: National Marine Fisheries Service (NMFS), National Oceanic and Atmospheric Administration (NOAA), Commerce.

ACTION: Notice of a public hearing.

SUMMARY: The Caribbean Fishery Management Council will hold a public hearing to obtain input from fishers, the general public, and the local agencies representatives on the Draft Regulatory Amendment 2 to the Fishery Management Plan for Queen Conch Resources of Puerto Rico and the U.S. Virgin Islands: Compatible Trip and Bag Limits for the U.S. Caribbean Exclusive Economic Zone (EEZ).

DATES: The public hearing will be held on March 25, 2013, from 7 p.m. to 10 p.m.

ADDRESSES: The hearing will be held at The Buccaneer Hotel, 7 Estate Shoys, Christiansted, St. Croix, U.S. Virgin Islands.

FOR FURTHER INFORMATION CONTACT: Caribbean Fishery Management Council, 270 Muñoz Rivera Avenue, Suite 401, San Juan, Puerto Rico 00918; telephone: (787) 766-5926.

SUPPLEMENTARY INFORMATION: The Caribbean Fishery Management Council will hold a public hearing to receive public input on the following management options:

Summary

The National Marine Fisheries Service, in collaboration with the Council, has developed Regulatory Amendment 2 and its Environmental Assessment to establish compatible regulations with U.S. Virgin Islands (USVI) territorial regulations for the harvest of queen conch. Fishing and possession of queen conch in the U.S. Caribbean exclusive economic zone (EEZ) is only allowed in the area of Lang Bank, to the east of St. Croix.

The USVI has expressed interest in having federal waters become compatible with the territorial trip limit because some of the harvest of queen conch in St. Croix comes from the EEZ, and that harvest must traverse territorial waters to be landed. Thus, establishing compatible regulations would aid enforcement by eliminating the inconsistency in the number of queen conch allowed to be possessed on the water.

The alternatives considered in this Regulatory Amendment address the following issues:

The current trip limit in federal waters allows a licensed commercial fisherman to harvest up to 150 queen conch per day, but does not establish a harvest limit per vessel. USVI regulations allow the harvest of 200 queen conch per vessel regardless of the number of licensed fishermen on board.

The daily recreational bag limit in federal waters allows three queen conch per person and a maximum of 12 queen conch per boat. In contrast, the USVI daily recreational bag limit consists of six queen conch per person and a maximum of 24 per boat.

Although commercial and recreational harvest of queen conch appears to occur primarily in territorial waters, with only minimal EEZ harvest, queen conch is currently classified as an overfished species, and it is managed under a 15-year rebuilding plan. Establishing compatible regulations would allow for more efficient management and enforcement of queen conch regulations in both territorial and EEZ waters.

The goal of Regulatory Amendment 2 is to achieve state-federal compatibility of queen conch.

List of Actions and Alternatives

ACTION 1: Modify the trip limit for the commercial harvest of queen conch in the U.S. Caribbean exclusive economic zone (EEZ).

Alternative 1: No Action. Do not modify the current trip limit for the commercial harvest of queen conch in the U.S. Caribbean EEZ, which allows no more than 150 queen conch per licensed commercial fisherman per day.

Alternative 2: Modify the trip limit for the commercial harvest of queen conch in the U.S. Caribbean EEZ to be consistent with the U.S. Virgin Islands (USVI) limit which consists of no more than 200 queen conch per vessel per day.

Alternative 3: Modify the trip limit for the commercial harvest of queen conch in the U.S. Caribbean EEZ to allow for no more than 150 queen conch per vessel per day if there is one licensed commercial fisherman on board, or no more than 200 queen conch per vessel per day if more than one licensed commercial fisherman is on board.

ACTION 2: Modify the bag limit for the recreational harvest of queen conch in the U.S. Caribbean EEZ.

Alternative 1: No Action. Do not modify the current bag limit for the recreational harvest of queen conch in the U.S. Caribbean EEZ, which consists of 3 queen conch per person per day, or if more than 4 persons are aboard, 12 queen conch per vessel per day.

Alternative 2: Modify the bag limit for the recreational harvest of queen conch in the U.S. Caribbean EEZ to be consistent with the USVI territorial limit of 6 queen conch per person per day, with a maximum of 24 queen conch per vessel per day.

Alternative 3: Modify the bag limit for the recreational harvest of queen conch in the U.S. Caribbean EEZ to allow no more than 6 queen conch per person per day, with a maximum of 12 queen conch per vessel per day.

Alternative 4: Modify the bag limit for the recreational harvest of queen conch in the U.S. Caribbean EEZ to allow no more than 3 queen conch per person per day, with a maximum of 24 queen conch per vessel per day.

Special Accommodations

The hearing is physically accessible to people with disabilities. For more information or request for sign language interpretation and other auxiliary aids, please contact Mr. Miguel A. Rolón, Executive Director, Caribbean Fishery Management Council, 270 Muñoz Rivera Avenue, Suite 401, San Juan, Puerto Rico, 00918, telephone: (787) 766-5926, at least 5 days prior to the meeting date.

Dated: March 5, 2013.
Tracey L. Thompson,
Acting Deputy Director, Office of Sustainable Fisheries, National Marine Fisheries Service.

[FR Doc. 2013-05425 Filed 3-7-13; 8:45 am]

BILLING CODE 3510-22-P